DEPARTMENT OF THE INTERIOR

Bureau of Land Management

[LLMTC0400.L14300000.EU0000;SDM101126]

Notice of Realty Action: Direct Sale of Public Land in Lawrence County, SD

AGENCY: Bureau of Land Management, Interior.

ACTION: Notice of Realty Action.

SUMMARY: The Bureau of Land Management (BLM), South Dakota Field Office, proposes to sell a parcel of public land consisting of 0.03 acres in Lawrence County, South Dakota, to Keith Sauls for the appraised fair market value of $183.

DATES: Comments regarding the proposed sale must be received by the BLM on or before February 28, 2011.

ADDRESSES: Written comments concerning the proposed sale should be sent to the Field Manager, BLM, South Dakota Field Office, 310 Roundup Street, Belle Fourche, South Dakota 57717.

FOR FURTHER INFORMATION CONTACT: Charles Berdan, Realty Specialist, BLM, South Dakota Field Office, 310 Roundup Street, Belle Fourche, South Dakota 57717 or phone (605) 892-7000.

SUPPLEMENTARY INFORMATION: The following described public land is being proposed for direct sale to Keith Sauls in accordance with Sections 203 and 209 of the Federal Land Policy and Management Act of 1976 (FLPMA), as amended (43 U.S.C. 1713 and 1719);

Black Hills Meridian

T. 5 N., R. 3 E.,

Sec. 26, Lot 16.

The area described contains 0.03 acres, more or less, in Lawrence County.

The BLM proposes to sell this land to Keith Sauls for the appraised fair market value of $183. The public land is identified as suitable for disposal in the BLM's 1986 South Dakota Resource Area Management Plan, as amended, and is not needed for any other Federal purpose.

The public land proposed for sale consists of a tiny lot on which a corner of a home was built. The BLM is proposing a direct sale to the homeowner, in accordance with 43 CFR 2711.3-3, to resolve inadvertent unauthorized use or occupancy of the land. A competitive sale is, therefore, not appropriate and the public interest would be best served by a direct sale. The public land proposed for sale adjoins a larger parcel of public land. The BLM proposes not to convey the Federal mineral interests. The BLM completed a leasable mineral and surface interference report which concluded disposal of the land would not interfere with operations under the Mineral Leasing Act. The land has been examined in accordance with the Comprehensive Environmental Response, Compensation, and Liability Act of 1980, 120(h), 40 CFR 373, and BLM policy. No evidence of hazardous substances, petroleum products, or recognized environmental conditions was found.

On January 13, 2011, the above described land will be segregated from appropriation under the public land laws, including the mining laws, except for the sale provisions of FLPMA. Until completion of the sale, the BLM will no longer accept land use applications affecting the identified public land. The segregation terminates upon issuance of a patent, publication in the Federal Register of a termination of the segregation, or on January 14, 2013, unless extended by the BLM State Director in accordance with 43 CFR 2711.1-2 prior to the termination date. The land would not be sold until at least March 14, 2011. Any patent issued would contain the following terms, conditions, and reservations:

1. A reservation of a right-of-way to the United States for ditches and canals constructed by authority of the United States under the Act of August 30, 1890 (43 U.S.C. 945);

2. A reservation of all mineral rights to the United States;

3. The parcel will be subject to all valid existing rights of record at the time of conveyance; and

4. An appropriate indemnification clause protecting the United States from claims arising out of the patentee's use, occupancy or operations on the patented lands.

Detailed information concerning the proposed land sale, including the appraisal, planning and environmental documents, is available for review at the location identified in ADDRESSES above.

Public comments regarding the proposed sale may be submitted in writing to the attention of the BLM South Dakota Field Manager (see ADDRESSES above) on or before February 28, 2011. Comments received in electronic form, such as e-mail or fax, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Theresa M. Hanley,
Deputy State Director, Division of Resources.

[FR Doc. 2011-550 Filed 1-12-11; 8:45 am]

BILLING CODE 4310-DN-P